DEPARTMENT OF TRANSPORTATION

Federal Aviation Administration

14 CFR Part 71

[Docket No. FAA-2005-20446; Airspace Docket No. 05-AAL-04]

RIN 2120-AA66

Establishment of Area Navigation (RNAV) Routes; AK

AGENCY: Federal Aviation Administration (FAA), DOT.

ACTION: Final rule.

SUMMARY: This action establishes 33 low altitude area navigation (RNAV) routes in Alaska to support the Alaskan Capstone Program. The FAA initially proposed 39 RNAV routes; however, 6 routes subsequently have been canceled to reduce chart clutter. The FAA is taking this action to enhance safety and improve the efficient use of the navigable airspace in Alaska.

DATES: Effective Date: 0901 UTC, September 1, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On March 14, 2005, the FAA published in the Federal Register a notice of proposed rulemaking to establish 39 low altitude RNAV routes in Alaska (70 FR 12423). Interested parties were invited to participate in this rulemaking effort by submitting written comments on the proposal. Three comments were received.

Two commenters were concerned about chart clutter from the additional route structure published on the low altitude IFR charts.

The FAA agrees with the comment. To reduce chart clutter, six routes from the proposal that overlaid existing airways have been canceled due to the close proximity of new waypoints to existing intersections.

The Aircraft Owners and Pilots Association (AOPA) raised several issues concerning aircrew/pilot qualifications and navigation systems that will support the new RNAV routes in Alaska. Specifically, AOPA has concerns regarding Special Aircraft and Aircrew Authorization Required (SAAAR) criteria, and Wide Area Augmentation System (WAAS), and also suggests the need for pilot and controller education resources.

SAAAR will not be required to operate on the T and Q routes in Alaska. The routes will be public routes and published on charts with appropriate notation regarding required equipage. Special Federal Aviation Regulation No. 97 (SFAR 97) (68 FR 14072), which is applicable only in Alaska, allows navigation with GPS Technical Standard Order (TSO) 145/146 WAAS-compliant avionics without reference to ground based Navigational Aids (NAVAIDs). SFAR 97 allows development of Minimum Enroute Altitudes (MEAs) that are based upon communications and obstacle clearance criteria only, without regard to ground based NAVAID signal reception.

The Alaska region was granted an Air Traffic Control authorization to use GPS, including TSO C129 receivers, without radar monitoring to navigate from published waypoint to published waypoint within the state. This authorization does not allow use of MEAs below service volume that are allowed only by SFAR 97 to aircraft equipped with GPS TSO 145/146 WAAS-compliant avionics.

The T routes will be depicted only on low altitude charts. Routes developed above FL180 are designated with the letter Q and will appear on high altitude charts. Airway dimensions are 4 nautical miles either side of centerline.

Pilot education is ongoing to prepare pilots of technically advanced aircraft to navigate in the National Airspace System (NAS) as it evolves from ground-based navigation. The FAA/Industry Training Standards (FITS) program helps pilots of technically advanced aircraft, which have more automation and often have greater performance capabilities, develop the risk-management skills and in-depth systems knowledge needed to safely operate and maximize the capability of these aircraft within the NAS. The Alaska Capstone Program is providing individual pilot training to pilots flying aircraft equipped with Capstone avionics.

With the exception of editorial changes and the removal of six routes, this amendment is the same as that proposed in the notice.

Related Rulemaking

On April 8, 2003, the FAA published the Designation of Class A, B, C, D, and E Airspace Areas; Air Traffic Service Routes, and Reporting Points rule in the Federal Register (68 FR 16943). This rule adopted certain amendments proposed in Notice No. 02-20, Area Navigation (RNAV) and Miscellaneous Amendments. The rule adopted and revised several definitions in FAA regulations, including Air Traffic Service Routes, to be in concert with International Civil Aviation Organization definitions; and reorganized the structure of FAA regulations concerning the designation of Class A, B, C, D, and E airspace areas; airways; routes; and reporting points. The purpose of the rule was to facilitate the establishment of RNAV routes in the NAS for use by aircraft with advanced navigation system capabilities.

On May 9, 2003, the FAA published the Establishment of Area Navigation Routes (RNAV) rule in the Federal Register (68 FR 24864).

The Rule

The FAA amends Title 14 Code of Federal Regulations (14 CFR) part 71 and establishes 33 RNAV routes in Alaska, within the airspace assigned to the Anchorage Air Route Control Center (ARTCC). These routes were developed as part of the Capstone Program. This action will enhance safety, and facilitate the more flexible and efficient use of the navigable airspace for enroute instrument flight rules (IFR) operations within Alaska.

Low altitude RNAV routes are published in paragraph 2006 of FAA Order 7400.9M dated August 30, 2004, and effective September 16, 2004, which is incorporated by reference in 14 CFR 71.1. The low altitude RNAV routes listed in this document will be published subsequently in the order.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1E, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2006 Area Navigation Routes.

* * * * *

T-219 IIK to AIX [New]
IIK | VOR/DME | (Lat. 59°56′34″ N., long. 164°02′04″ W.)
AIX | NDB/DME | (Lat. 60°23′06″ N., long. 166°12′53″ W.)
T-222 FAI to ADK NDB [New]
FAI | VORTAC | (Lat. 64°48′00″ N., long. 148°00′43″ W.)
ENN | VORTAC | (Lat. 64°35′24″ N., long. 149°04′22″ W.)
MCG | VORTAC | (Lat. 62°57′04″ N., long. 155°36′41″ W.)
BET | VORTAC | (Lat. 60°47′05″ N., long. 161°49′27″ W.)
IIK | VOR/DME | (Lat. 59°56′34″ N., long. 164°02′04″ W.)
SPY | NDB/DME | (Lat. 57°09′28″ N., long. 170°13′51″ W.)
ADK | NDB/DME | (Lat. 51°52′19″ N., long. 176°40′34″ W.)
T-223 ANC to EHM [New]
ANC | VOR/DME | (Lat. 61°09′03″ N., long. 150°12′24″ W.)
BLUGA | WP | (Lat. 60°46′22″ N., long. 151°55′07″ W.)
NONDA | WP | (Lat. 60°19′15″ N., long. 153°47′57″ W.)
FAGIN | WP | (Lat. 59°51′56″ N., long. 155°32′43″ W.)
DLG | VOR/DME | (Lat. 58°59′39″ N., long. 158°33′08″ W.)
EHM | NDB | (Lat. 58°39′21″ N., long. 162°04′33″ W.)
T-225 HPB to FAI [New]
HPB | VOR/DME | (Lat. 61°30′52″ N., long. 166°08′04″ W.)
UNK | VOR/DME | (Lat. 63°53′31″ N., long. 160°41′04″ W.)
GAL | VORTAC | (Lat. 64°44′17″ N., long. 156°46′38″ W.)
TAL | VOR/DME | (Lat. 65°10′38″ N., long. 152°10′39″ W.)
FAI | VORTAC | (Lat. 64°48′00″ N., long. 148°00′43″ W.)
T-226 JOH to FYU [New]
JOH | VOR/DME | (Lat. 60°28′51″ N., long. 146°35′58″ W.)
FIDAL | WP | (Lat. 60°44′03″ N., long. 146°26′00″ W.)
ROBES | WP | (Lat. 61°05′51″ N., long. 146°11′25″ W.)
KLUNG | WP | (Lat. 61°45′32″ N., long. 145°43′58″ W.)
GKN | VOR/DME | (Lat. 62°09′09″ N., long. 145°27′01″ W.)
DOZEY | WP | (Lat. 62°25′04″ N., long. 145°29′11″ W.)
PAXON | WP | (Lat. 62°58′54″ N., long. 145°33′56″ W.)
DONEL | WP | (Lat. 63°40′22″ N., long. 145°39′54″ W.)
BIG | VORTAC | (Lat. 64°00′16″ N., long. 145°43′02″ W.)
HEXAX | WP | (Lat. 65°59′40″ N., long. 145°23′01″ W.)
FYU | VORTAC | (Lat. 66°34′27″ N., long. 145°16′36″ W.)
T-227 CD to SYA [New]
CD | NDB | (Lat. 55°17′46″ N., long. 162°47′21″ W.)
CIPIM | WP | (Lat. 54°52′50″ N., long. 165°03′15″ W.)
DUT | NDB/DME | (Lat. 53°54′19″ N., long. 166°32′57″ W.)
ADK | NDB/DME | (Lat. 51°52′19″ N., long. 176°40′34″ W.)
JANNT | WP | (Lat. 52°04′18″ N., long. 178°15′37″ W.)
SYA | NDB | (Lat. 52°43′19″ N., long. 174°03′37″ W.)
T-228 EHM to SHH [New]
EHM | NDB | (Lat. 58°39′21″ N., long. 162°04′33″ W.)
IIK | VOR/DME | (Lat. 59°56′34″ N., long. 164°02′04″ W.)
HPB | VOR/DME | (Lat. 61°30′52″ N., long. 166°08′04″ W.)
OME | VOR/DME | (Lat. 64°29′06″ N., long. 165°15′11″ W.)
HIKAX | WP | (Lat. 65°36′20″ N., long. 165°44′44″ W.)
SHH | NDB | (Lat. 66°15′29″ N., long. 166°03′09″ W.)
T-229 FAI to PHO [New]
FAI | VORTAC | (Lat. 64°48′00″ N., long. 148°00′43″ W.)
TAL | VOR/DME | (Lat. 65°10′38″ N., long. 152°10′39″ W.)
HSL | VOR/DME | (Lat. 65°42′22″ N., long. 156°22′14″ W.)
WLK | VOR/DME | (Lat. 66°36′00″ N., long. 159°59′30″ W.)
OTZ | VOR/DME | (Lat. 66°53′08″ N., long. 162°32′24″ W.)
PHO | NDB | (Lat. 68°20′41″ N., long. 166°47′51″ W.)
T-230 AK to SPY [New]
AK | NDB | (Lat. 58°44′14″ N., long. 156°46′40″ W.)
SPY | NDB/DME | (Lat. 57°09′28″ N., long. 170°13′51″ W.)
T-231 FAI to OTZ [New]
FAI | VORTAC | (Lat. 64°48′00″ N., long. 148°00′43″ W.)
SIGME | WP | (Lat. 65°05′48″ N., long. 149°30′00″ W.)
ZUTUL | WP | (Lat. 66°28′24″ N., long. 158°30′00″ W.)
OTZ | VOR/DME | (Lat. 66°53′08″ N., long. 162°32′24″ W.)
T-232 OLARU to BRW [New]
OLARU | WP | (Lat. 62°28′16″ N., long. 141°00′00″ W.)
ORT | VORTAC | (Lat. 62°56′50″ N., long. 141°54′46″ W.)
BIG | VORTAC | (Lat. 64°00′16″ N., long. 145°43′02″ W.)
FAI | VORTAC | (Lat. 64°48′00″ N., long. 148°00′43″ W.)
BTT | VOR/DME | (Lat. 66°54′18″ N., long. 151°32′09″ W.)
BRONX | WP | (Lat. 70°04′03″ N., long. 155°06′34″ W.)
BRW | VOR/DME | (Lat. 71°16′24″ N., long. 156°47′17″ W.)
T-233 EAV to AMF [New]
EAV | NDB | (Lat. 66°53′36″ N., long. 151°33′49″ W.)
ENCOR | WP | (Lat. 66°55′58″ N., long. 152°19′54″ W.)
KORKY | WP | (Lat. 67°05′33″ N., long. 157°00′01″ W.)
AMF | NDB/DME | (Lat. 67°06′24″ N., long. 157°51′29″ W.)
T-234 FAI to RAMPA [New]
FAI | VORTAC | (Lat. 64°48′00″ N., long. 148°00′43″ W.)
TOLLO | WP | (Lat. 65°06′12″ N., long. 148°58′34″ W.)
RAMPA | WP | (Lat. 65°21′55″ N., long. 149°50′41″ W.)
T-235 ATK to UQS [New]
ATK | NDB | (Lat. 70°28′09″ N., long. 157°25′39″ W.)
UQS | NDB | (Lat. 70°12′45″ N., long. 151°00′00″ W.)
T-236 ENN to RAMPA [New]
ENN | VORTAC | (Lat. 64°35′24″ N., long. 149°04′22″ W.)
RAMPA | WP | (Lat. 65°21′55″ N., long. 149°50′41″ W.)
T-237 HOM to MDO [New]
HOM | VOR/DME | (Lat. 59°42′34″ N., long. 151°27′24″ W.)
WUXAN | WP | (Lat. 59°53′00″ N., long. 149°00′00″ W.)
MDO | VOR/DME | (Lat. 59°25′18″ N., long. 146°21′00″ W.)
T-238 RAMPA to BTT [New]
RAMPA | WP | (Lat. 65°21′55″ N., long. 149°50′41″ W.)
BTT | VOR/DME | (Lat. 66°54′18″ N., long. 151°32′09″ W.)
T-239 GAM to ULL [New]
GAM | NDB/DME | (Lat. 63°46′55″ N., long. 171°44′12″ W.)
ULL | VOR/DME | (Lat. 63°41′32″ N., long. 170°28′12″ W.)
T-240 BTT to SCC [New]
EAV | NDB | (Lat. 66°53′36″ N., long. 151°33′49″ W.)
NAMRE | WP | (Lat. 69°06′29″ N., long. 149°34′00″ W.)
SCC | VOR/DME | (Lat. 70°11′57″ N., long. 148°24′58″ W.)
T-241 LATCH to LVD [New]
LATCH | WP | (Lat. 56°00′45″ N., long. 134°35′54″ W.)
LVD | VOR/DME | (Lat. 56°28′04″ N., long. 133°04′59″ W.)
T-242 TKA to BRW [New]
TKA | VOR/DME | (Lat. 62°17′55″ N., long. 150°06′20″ W.)
JOKAP | WP | (Lat. 63°54′46″ N., long. 150°58′29″ W.)
KUTDE | WP | (Lat. 66°19′20″ N., long. 152°29′01″ W.)
LACIL | WP | (Lat. 69°30′18″ N., long.155°00′34″ W.)
BRW | VOR/DME | (Lat. 71°16′24″ N., long. 156°47′17″ W.)
T-244 ANC to OME [New]
ANC | VOR/DME | (Lat. 61°09′03″ N., long. 150°12′24″ W.)
CAKAD | WP | (Lat. 61°18′24″ N., long. 150°43′12″ W.)
CEXIX | WP | (Lat. 61°29′52″ N., long. 151°21′58″ W.)
BETPE | WP | (Lat. 62°21′01″ N., long. 154°29′43″ W.)
CHEFF | WP | (Lat. 63°02′10″ N., long. 157°22′49″ W.)
CONFI | WP | (Lat. 63°49′03″ N., long. 161°13′59″ W.)
OME | VOR/DME | (Lat. 64°29′06″ N., long. 165°15′11″ W.)
T-246 ANC to GAL [New]
ANC | VOR/DME | (Lat. 61°09′03″ N., long. 150°12′24″ W.)
WEBIK | WP | (Lat. 63°07′48″ N., long. 155°29′18″ W.)
GAL | VORTAC | (Lat. 64°44′17″ N., long. 156°46′38″ W.)
T-248 ENM to ULL [New]
ENM | VOR/DME | (Lat. 62°47′00″ N., long. 164°29′16″ W.)
BICAP | WP | (Lat. 63°37′23″ N., long. 169°55′52″ W.)
ULL | VOR/DME | (Lat. 63°41′32″ N., long. 170°28′12″ W.)
T-250 BET to ULL [New]
BET | VOR/DME | (Lat. 60°47′05″ N., long. 161°49′27″ W.)
BANAT | WP | (Lat. 62°12′49″ N., long. 165°40′01″ W.)
ULL | VOR/DME | (Lat. 63°41′32″ N., long. 170°28′12″ W.)
T-252 OTZ to SCC [New]
OTZ | VOR/DME | (Lat. 66°53′08″ N., long. 162°32′24″ W.)
PERCI | WP | (Lat. 67°01′16″ N., long. 162°06′40″ W.)
WARRT | WP | (Lat. 69°21′10″ N., long. 153°00′00″ W.)
SCC | VOR/DME | (Lat. 70°11′57″ N., long. 148°24′58″ W.)
T-256 GAL to BRW [New]
GAL | VORTAC | (Lat. 64°44′17″ N., long. 156°46′38″ W.)
MEESE | WP | (Lat. 66°00′01″ N., long. 156°46′44″ W.)
NITTI | WP | (Lat. 67°00′01″ N., long. 156°46′49″ W.)
PANNT | WP | (Lat. 68°30′01″ N., long. 156°46′58″ W.)
OSSON | WP | (Lat. 69°35′59″ N., long. 156°47′05″ W.)
BRW | VOR/DME | (Lat. 71°16′24″ N., long. 156°47′17″ W.)
T-258 SHH to PHO [New]
SHH | NDB | (Lat. 66°15′29″ N., long. 166°03′09″ W.)
PHO | NDB | (Lat. 68°20′41″ N., long. 166°47′51″ W.)
T-260 TNC to PHO [New]
TNC | NDB/DME | (Lat. 65°33′43″ N., long. 167°55′27″ W.)
COGNU | WP | (Lat. 65°48′29″ N., long. 167°50′06″ W.)
PHO | NDB | (Lat. 68°20′41″ N., long. 166°47′51″ W.)
T-262 ODK to JOH [New]
ODK | VORTAC | (Lat. 57°46′30″ N., long. 152°20′23″ W.)
WUXAN | WP | (Lat. 59°53′00″ N., long. 149°00′00″ W.)
JOH | VOR/DME | (Lat. 60°28′51″ N., long. 146°35′58″ W.)
T-264 ODK to MDO [New]
ODK | VORTAC | (Lat. 57°46′30″ N., long. 152°20′23″ W.)
ZAXUM | WP | (Lat. 58°41′15″ N., long. 147°53′26″ W.)
MDO | VOR/DME | (Lat. 59°25′18″ N., long. 146°21′00″ W.)
T-266 CGL to FPN [New]
CGL | NDB | (Lat. 58°21′33″ N., long. 134°41′58″ W.)
FPN | NDB | (Lat. 56°47′32″ N., long. 132°49′15″ W.)
T-268 FPN to ICK [New]
FPN | NDB | (Lat. 56°47′32″ N., long. 132°49′15″ W.)
ICK | NDB | (Lat. 55°04′15″ N., long. 131°36′18″ W.)

* * * * *

Issued in Washington, DC, on June 16, 2005.
Edith V. Parish,
Acting Manager, Airspace and Rules.

[FR Doc. 05-12366 Filed 6-21-05; 8:45 am]

BILLING CODE 4910-13-P